FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 9, 2014.

A. Federal Reserve Bank of St. Louis (Yvonne Sparks, Community Development Officer) P.O. Box 442, St. Louis, Missouri 63166-2034:

1. Tyrone A. Burroughs, individually and as part of a family control group consisting of Tyrone A. Burroughs, Nelda F. Burroughs, and Burroughs Investment Group, all of Germantown, Tennessee; and Melanie B. Cole, Williamsburg, Virginia; to retain voting shares of First Alliance Bancshares, Inc., and thereby indirectly retain voting shares of First Alliance Bank, both in Cordova, Tennessee.

B. Federal Reserve Bank of Kansas City (Dennis Denney, Assistant Vice President) 1 Memorial Drive, Kansas City, Missouri 64198-0001:

1. P. Mark Graff, McCook, Nebraska; and Mary C. Graff, Clarendon Heights, Illinois; individually and as co-trustees; and Scott A. Thomas, Mendota Heights, Minnesota, as co-trustee of the Peter M. Graff Qualified Marital Trust; and the Peter M. Graff Qualified Marital Trust, McCook, Nebraska; to acquire voting shares of Graff Family, Inc., and thereby indirectly acquire voting shares of MNB Financial Group, Inc., and McCook National Bank, both in McCook, Nebraska.

Board of Governors of the Federal Reserve System, September 19, 2014.
Margaret McCloskey Shanks,
Deputy Secretary of the Board.

[FR Doc. 2014-22721 Filed 9-23-14; 8:45 am]

BILLING CODE 6210-01-P